NATIONAL SCIENCE FOUNDATION

Special Emphasis Panel; Notice of Meeting

In accordance with the Federal Advisory Committee Act (Pub. L. 92-463, as amended), the National Science Foundation announces the following meeting.

Name: Special Emphasis Panel in Physics (1208).

Date and Time: Thursday, March 16, 2000; 8:30 am-6:00 pm, Rm. 310—DMR; Rm. 320 CHE; Rm. 370—AST; Rm. 380—PHY; Rm. 390—DMS (both days) Friday, March 17, 2000; 8:30 am-6:00 pm.

Place: Room 310, NSF, 4201 Wilson Blvd., Arlington, VA 22230.

Type of Meeting: Closed.

Contact Person: Dr. Denise Caldwell, Program Director for the MPS POWRE proposals, National Science Foundation, 4201 Wilson Blvd., Arlington, VA 22230. Telephone: (703) 306-1807.

Purpose of Meeting: To provide advice and recommendations concerning physics submitted to NSF for financial support.

Agenda: To review and evaluate the Professional Opportunities for Women in Research and Education (POWRE) proposals as part of the selection process.

Reason for Closing: The proposals being reviewed include information of a proprietary or confidential nature, including technical information; financial data, such as salaries; and personal information concerning individuals associated with the proposals. These matters are exempt under 5 U.S.C. 552b(c) and (6) of the Government in the Sunshine Act.

Dated: March 6, 2000.
Karen York,
Committee Management Officer.

[FR Doc. 00-5885 Filed 3-9-00; 8:45 am]

BILLING CODE 7555-01-M